DEPARTMENT OF HOMELAND SECURITY

Transportation Security Administration

Intent To Request Renewal From OMB of One Current Public Collection of Information: Highway Corporate Security Review

AGENCY: Transportation Security Administration, DHS.

ACTION: 60-day Notice.

SUMMARY: The Transportation Security Administration (TSA) invites public comment on one currently approved information collection requirement (ICR), Office of Management and Budget (OMB) control number 1652-0036, abstracted below that we will submit to OMB for renewal in compliance with the Paperwork Reduction Act (PRA). The ICR describes the nature of the information collection and its expected burden. The ICR will assess the current security practices in the highway and motor carrier industry by way of its Highway Corporate Security Review (CSR) Program, which encompasesses site visits and interviews, and is part of the larger domain awareness, prevention, and protection program supporting TSA's and the Department of Homeland Security's missions.

DATES: Send your comments by June 27, 2011.

ADDRESSES: Comments may be e-mailed to TSAPRA@dhs.gov or delivered to the TSA PRA Officer, Office of Information Technology (OIT), TSA-11, Transportation Security Administration, 601 South 12th Street, Arlington, VA 20598-6011.

FOR FURTHER INFORMATION CONTACT: Joanna Johnson at the above address, or by telephone (571) 227-3651.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0036; Corporate Security Review. Under the Aviation and Transportation Security Act (ATSA) ¹ and delegated authority from the Secretary of Homeland Security, TSA has broad responsibility and authority for “security in all modes of transportation * * * including security responsibilities * * * over modes of transportation that are exercised by the Department of Transportation.” ² TSA has additional authorities as well. TSA is specifically empowered to develop policies, strategies, and plans for dealing with threats to transportation,³ ensure the adequacy of security measures for the transportation of cargo,⁴ oversee the implementation and ensure the adequacy of security measures at transportation facilities,⁵ and carry out other appropriate duties relating to transportation security.⁶

¹ Public Law 107-71, 115 Stat. 597 (November 19, 2001).

² See 49 U.S.C. 114(d). The TSA Assistant Secretary's current authorities under ATSA have been delegated to him by the Secretary of Homeland Security. Section 403(2) of the Homeland Security Act (HSA) of 2002, Public Law 107-296, 116 Stat. 2315 (2002), transferred all functions of TSA, including those of the Secretary of Transportation and the Under Secretary of Transportation of Security related to TSA, to the Secretary of Homeland Security. Pursuant to DHS Delegation Number 7060.2, the Secretary delegated to the Assistant Secretary (then referred to as the Administrator of TSA), subject to the Secretary's guidance and control, the authority vested in the Secretary with respect to TSA, including that in sec. 403(2) of the HSA.

³ 49 U.S.C. 114(f)(3).

⁴ 49 U.S.C. 114(f)(10).

⁵ 49 U.S.C. 114(f)(11).

⁶ 49 U.S.C. 114(f)(15).

One way TSA carries out its surface transportation responsibilities is by assessing the current security practices in the trucking, school bus, and motor coach industries, as well as at State Departments of Transportation (DOTs), by way of its Corporate Security Review (CSR) program. The CSR program encompasses site visits and interviews, and is one piece of a much larger domain awareness, prevention, and protection program in support of TSA's and the Department of Homeland Security's missions. TSA is seeking to renew its OMB approval for this information collection so that TSA can continue to ascertain minimum security standards and identify coverage gaps, activities critical to carrying out its transportation security mission.

The CSR is an “instructive” review that provides TSA with an understanding of certain surface transportation owner/operators' security programs, if they have adopted such programs. In carrying out CSRs, Transportation Security Specialists (TSS) from TSA's Highway and Motor Carrier Division (HMC) and Transportation Security Inspectors-Surface (TSI-S) conduct site visits of trucking (excluding hazardous materials shippers and carriers), school bus, motor coach companies and State DOTs throughout the nation. The TSA representatives analyze the owner's/operator's security plan, if the owner/operator has adopted one, and determines if the mitigation measures included in the plan are being properly implemented. In addition to examining the security plan document, TSA reviews one or more assets of the owner/operator or State DOT.

During the site visits, TSA completes a CSR form, which contains questions concerning ten topics: Management and oversight of the security plan, threat assessment, criticality assessment, vulnerability assessment, personnel security, training, physical security countermeasures, en route security, information technology security, and security exercises and drills. TSA conducts this collection through voluntary face-to-face visits at the headquarters of the surface transportation owners/operators. Typically, TSA sends one employee to conduct a two to three hour discussion/interview with representatives from the owner/operator. TSA plans to collect information from businesses of all sizes in the course of conducting these surface mode CSRs.

TSA conducts these interviews to ascertain information on security measures and to identify security gaps. The interviews also provide the TSA with a method to encourage the surface transportation owners/operators affected by the CSRs to be diligent in effecting and maintaining security-related improvements. This program provides TSA with real-time information on current security practices within the trucking, school bus, and motor coach modes of the surface transportation sector. This information allows TSA to adapt programs to the changing threat dynamically, while incorporating an understanding of the improvements owners/operators make in their security posture. Without this information, the ability of the TSA to perform its security mission would be severely hindered.

Additionally, the relationships these face-to-face contacts foster are critical to the TSA's ability to reach out to the surface transportation stakeholders affected by the CSRs. The relationships foster a sense of trust and a willingness to share information with the Federal Government. TSA assures respondents the portion of their responses deemed Sensitive Security Information (SSI) will be handled consistent with 49 CFR parts 15 and 1520.

The annual hour burden for this information collection is estimated to be 1,500 hours. While TSA estimates a total of 500 potential respondents, this estimate is based on TSA conducting 500 visits per year, each visit lasting two to three hours. TSA estimates no annual cost burden to respondents.

Issued in Arlington, Virginia, on April 20, 2011.
Joanna Johnson,
Paperwork Reduction Act Officer, Office of Information Technology.

[FR Doc. 2011-9983 Filed 4-25-11; 8:45 am]

BILLING CODE 9110-05-P